DEPARTMENT OF HEALTH AND HUMAN SERVICES

Administration for Children and Families

Office of Planning, Research and Evaluation Grant to Rutgers, the State University of New Jersey

AGENCY: Office of Planning, Research and Evaluation, ACF, HHS.

ACTION: Award Announcement.

SUMMARY: Notice is hereby given that the Office of Planning, Research and Evaluation will award grant funds without competition to Rutgers, the State University of New Jersey (National Marriage Project). This grant is being awarded for an unsolicited proposal entitled, “Cohabitation, Marriage and Child Well-Being: A Cross-National Analysis” that conforms to the applicable program objectives, is within the legislative authorities and proposes activities that may be lawfully supported through grant mechanisms. The study is unique, timely, and highly relevant to ACF's interest in supporting healthy marriage. A compilation and analyses of the information from developed foreign nations regarding cohabitation is likely to be informative, instructive, and beneficial to United States' policymakers and others interested in family policy. The National Marriage Project within Rutgers, the State University of New Jersey, is well-positioned to conduct a comparative analysis of cohabitation across developed nations and the United States.

The National Marriage Project at Rutgers University is a nonpartisan organization devoted to creating greater pubic awareness about the importance of marriage as a child-rearing institution.

The grant will support a 12-month project at a cost of $86,308 in Federal support. The project is also being supported through non-Federal funding sources.

FOR FURTHER INFORMATION CONTACT: Richard Jakopic, Office of Planning, Research and Evaluation, Administration for Children and Families, 370 L'Enfant Promenade, SW., Washington, DC 20447, Phone: 202-205-5930.

Dated: March 27, 2006.
Naomi Goldstein,
Director, Office of Planning, Research and Evaluation.

[FR Doc. E6-5735 Filed 4-17-06; 8:45 am]

BILLING CODE 4184-01-P